DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or Assistant Director for Enforcement, Compliance and Analysis, tel.: 202-622-2490.

SUPPLEMENTARY INFORMATION:

Electronic Availability

The SDN List and additional information concerning OFAC sanctions programs are available on OFAC's website (https://www.treasury.gov/ofac).

Notice of OFAC Actions

On May 31, 2024, OFAC determined that the property and interests in property subject to U.S. jurisdiction of the following persons are blocked under the relevant sanctions authorities listed below.

Individual

1. KHAJEH FARD, Afshin, Tehran, Iran; DOB 22 Nov 1969; nationality Iran; Additional Sanctions Information—Subject to Secondary Sanctions; Gender Male; National ID No. 1819457850 (Iran) (individual) [NPWMD] [IFSR] (Linked To: IRAN AVIATION INDUSTRIES ORGANIZATION).

Designated pursuant to section 1(a)(iv) of Executive Order 13382 of June 28, 2005, “Blocking Property of Weapons of Mass Destruction Proliferators and Their Supporters,” 70 FR 38567, 3 CFR, 2005 Comp., p. 170 (E.O. 13382), for acting or purporting to act for or on behalf of, directly or indirectly, IRAN AVIATION INDUSTRIES ORGANIZATION, a person whose property and interests in property are blocked pursuant to E.O. 13382.

Entities

1. RAYAN FAN KAV ANDISH CO, North Sohrevardi South West Side Seyyed Khandan Bridge Barazandeh, Number 16, Second Floor, Tehran, Iran; Additional Sanctions Information—Subject to Secondary Sanctions; Organization Established Date 03 Jun 2009; National ID No. 10103974666 (Iran); Registration Number 350871 (Iran) [NPWMD] [IFSR] (Linked To: PARSAJAM, Mohsen).

Designated pursuant to section 1(a)(iv) of E.O. 13382 for being owned or controlled by, or acting or purporting to act for or on behalf of, directly or indirectly, PARSAJAM, Mohsen, a person whose property and interests in property are blocked pursuant to E.O. 13382.

2. FANAVARIHAYE HAVA PISHRAN SAZEH SEPEHR CO LLC, North Sohrevardi St., Barazandeh P. 24 Floor 1, Tehran, Iran; Additional Sanctions Information—Subject to Secondary Sanctions; Organization Established Date 11 Sep 2013; National ID No. 14003633494 (Iran); Registration Number 443744 (Iran) [NPWMD] [IFSR] (Linked To: RAYAN FAN KAV ANDISH CO).

Designated pursuant to section 1(a)(iv) of E.O. 13382 for being owned or controlled by, or acting or purporting to act for or on behalf of, directly or indirectly, RAYAN FAN KAV ANDISH CO, a person whose property and interests in property are blocked pursuant to E.O. 13382.

3. KISH MECHATRONICS CO, Iran; Additional Sanctions Information—Subject to Secondary Sanctions; Organization Established Date 26 Jul 2005; National ID No. 10861551083 (Iran); Registration Number 3473 (Iran) [NPWMD] [IFSR] (Linked To: HAKEMZADEH, Farshad).

Designated pursuant to section 1(a)(iv) of E.O. 13382 for being owned or controlled by, or acting or purporting to act for or on behalf of, directly or indirectly, HAKEMZADEH, Farshad, a person whose property and interests in property are blocked pursuant to E.O. 13382.

4. MERSAD MOHAJER CO LLC, Central District, Railway Town, Yas 4th St., South Yasman St., No. 2, Third Floor, North Unit, Tehran 1494734004, Iran; North Sohrevardi St., Barazandeh St., No. 24, Floor 2, Tehran 1555734651, Iran; Additional Sanctions Information—Subject to Secondary Sanctions; Organization Established Date 17 Jun 2007; National ID No. 10103361637 (Iran); Registration Number 299103 (Iran) [NPWMD] [IFSR] (Linked To: RAYAN FAN KAV ANDISH CO).

Designated pursuant to section 1(a)(iv) of E.O. 13382 for being owned or controlled by, or acting or purporting to act for or on behalf of, directly or indirectly, RAYAN FAN KAV ANDISH CO, a person whose property and interests in property are blocked pursuant to E.O. 13382.

Dated: May 31, 2024.
Bradley T. Smith,
Director, Office of Foreign Assets Control, U.S. Department of the Treasury.

[FR Doc. 2024-12304 Filed 6-4-24; 8:45 am]

BILLING CODE 4810-AL-P